NUCLEAR REGULATORY COMMISSION

[Docket Nos. 52-025 and 52-026; NRC-2008-0252]

Southern Nuclear Operating Company; Notice of Availability of the Draft Supplemental Environmental Impact Statement for Combined Licenses (COLS) for Vogtle Electric Generating Plant Units 3 and 4 and Associated Public Meeting

Notice is hereby given that the U.S. Nuclear Regulatory Commission (NRC) has published NUREG-1947, “Draft Supplemental Environmental Impact Statement for Combined Licenses (COLs) for Vogtle Electric Generating Plant Units 3 and 4.” The site is located on the southwest side of the Savannah River in eastern Burke County, Georgia. The application for the COLs was submitted by letter dated March 31, 2008 pursuant to 10 CFR part 52. A notice of receipt and availability of the application, which included the environmental report (ER), was published in the Federal Register on May 5, 2008 (73 FR 24616). A notice of acceptance for docketing of the application for the COL was published in the Federal Register on June 11, 2008 (73 FR 33118).

The purpose of this notice is to inform the public that NUREG-1947, “Draft Supplemental Environmental Impact Statement for Combined Licenses (COLs) for Vogtle Electric Generating Plant Units 3 and 4,” is available for public inspection in the NRC Public Documents Room (PDR) located at One White Flint North, 11555 Rockville Pike (first floor), Rockville, Maryland 20852 or from the Publicly Available Records (PARS) component of NRC Agency-wide Documents Access and Management System (ADAMS) and will also be placed directly on the NRC Web site at http://www.nrc.gov. ADAMS is accessible from the NRC Web site at http://www.nrc.gov/reading-rm/adams.html (the Public Electronic Reading Room). The ADAMS accession number for the DSEIS is ML102370278. Persons who do not have access to ADAMS or who encounter problems in accessing the documents located in ADAMS should contact the PDR reference staff at 1-800-397-4209, 301-415-4737, or by e-mail to pdr.resource@nrc.gov. In addition, the Burke County Library, 130 Highway 24 South, Waynesboro, GA, has agreed to make the DSEIS available for public inspection.

The NRC staff will hold a public meeting to present an overview of the DSEIS and to accept public comments on the document. The public meeting will be held at the Augusta Technical College, Waynesboro Campus Auditorium, 216 Hwy 24 South, Waynesboro, GA on Thursday, October 7, 2010. The meeting will convene at 7 p.m. and will continue until 10 p.m., as necessary. The meeting will be transcribed and will include: (1) A presentation of the contents of the DSEIS and (2) an opportunity for interested government agencies, organizations, and individuals to provide comments on the draft report. Additionally, the NRC staff will host informal discussions one hour before the start of the meeting. No formal comments on the DSEIS will be accepted by the NRC staff during the informal discussions. To be considered, comments must be provided either during the transcribed portion of the meeting or in writing. Comments will not be edited to remove any identifying or contact information, therefore, the NRC cautions against including any information that should not be publicly disclosed. The NRC requests that any party soliciting or aggregating comments received from other persons for submission to the NRC inform those persons that the NRC will not edit comments or remove any identifying or contact information, and therefore, they should not include any information in their comments that they do not want publicly disclosed.

Persons may register to attend or present oral comments at the meeting by contacting Ms. Mallecia Sutton by telephone at 1-800-368-5642, extension 0673 or via Internet to the NRC at VOGTLE.COLAEIS@nrc.gov, no later than September 30, 2010. Members of the public may also register to speak at the meeting within 15 minutes of the start of the meeting. Individual oral comments may be limited by the time available, depending on the number of persons who register.

Members of the public who have not registered may also have an opportunity to speak, if time permits. Ms. Sutton will need to be contacted no later than September 30, 2010, if special equipment or accommodations are needed to attend or present information at the public meeting, so that the NRC staff can determine whether the request can be accommodated.

ADDRESSES: You may submit comments by any one of the following methods. Please include Docket ID NRC-2008-0252 in the subject line of your comments. Comments submitted in writing or in electronic form will be posted on the NRC Web site and on the Federal rulemaking Web site Regulations.gov.

Federal Rulemaking Web site: Go to http://www.regulations.gov and search for documents filed under Docket ID NRC-2010-0288. Address questions about NRC dockets to Carol Gallagher 301-492-3668; e-mail Carol.Gallagher@nrc.gov.

In addition, members of the public may send written comments on the DSEIS for the VEGP COL to Cindy Bladey, Chief, Rules, Announcements and Directives Branch (RAD), Office of Administration, Mail Stop: TWB-05-B01M, U.S. Nuclear Regulatory Commission, Washington, DC 20555-0001, or by fax to RAD at (301) 492-3446.

To be considered, written comments should be postmarked by November 24, 2010. Electronic comments may be sent to the NRC at VOGTLE.COLAEIS@nrc.gov. Electronic submissions should be sent no later than November 24, 2010. Comments will be available electronically and accessible through the NRC's PERR link at http://www.nrc.gov/reading-rm/adams.html.

FOR FURTHER INFORMATION CONTACT: Ms. Mallecia Sutton, Division of Site and Environmental Reviews, Office of New Reactors, U.S. Nuclear Regulatory Commission, Washington, DC 20555-0001. Ms. Sutton may be contacted at the aforementioned telephone number or e-mail address.

Dated at Rockville, Maryland, this 27th day of August, 2010.
For the Nuclear Regulatory Commission.
Nilesh C. Chokshi,
Deputy Director, Division of Site and Environmental Reviews, Office of New Reactors.

[FR Doc. 2010-22061 Filed 9-2-10; 8:45 am]

BILLING CODE 7590-01-P